DEPARTMENT OF THE INTERIOR

Bureau of Land Management

[LLCA9300000 L58790000 EU0000; CACA 50168-14]

Notice of Realty Action: Direct Sale of Public Land in Monterey County, CA

AGENCY: Bureau of Land Management, Interior.

ACTION: Notice of realty action.

SUMMARY: The Bureau of Land Management (BLM), Hollister Field Office, proposes to sell a parcel of public land consisting of approximately 40 acres in Monterey County, California. The public land would be sold to Anthony Lombardo for the appraised fair market value of $25,000.

DATES: Written comments regarding the proposed sale must be received by the BLM on or before September 19, 2011.

ADDRESSES: Written comments concerning the proposed sale should be sent to the Field Manager, BLM Hollister Field Office, 20 Hamilton Court, Hollister, California 95023.

FOR FURTHER INFORMATION CONTACT: Christine Sloand, Realty Specialist, BLM, Hollister Field Office, 20 Hamilton Court, Hollister, California 95023, or phone 831-630-5022. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public land is proposed for direct sale to Anthony Lombardo, the adjoining landowner, in accordance with Sections 203 and 209 of the Federal Land Policy and Management Act of 1976 (FLPMA), as amended (43 U.S.C. 1713 and 1719).

Mount Diablo Meridian

T. 23 S., R. 12 E.,

Sec. 18, NE¼SW¼.

The area described contains approximately 40 acres, more or less, in Monterey County. The public land was first identified as suitable for disposal in the 1984 BLM Hollister Resource Management Plan (RMP) and remains available for sale under the 2007 Hollister RMP revision, and is not needed for any other Federal purpose. The disposal is in the public interest. The purpose of the sale is to dispose of public land which is difficult and uneconomic to manage as part of the public lands. The land proposed for sale is difficult and uneconomic for the BLM to manage because it is a small, isolated parcel which lacks legal access. The BLM is proposing a direct sale to Anthony Lombardo, who owns the surrounding private land and controls access to the public land. A competitive sale is not considered appropriate because the surrounding private land is owned by one party and the public land has little utility except as part of the surrounding ranch lands. The BLM has completed a mineral potential report which concluded there are no known mineral values in the land proposed for sale. The BLM proposes that conveyance of the Federal mineral interests would occur simultaneously with the sale of the land. The purchaser would be required to pay a $50 non-refundable filing fee for processing the conveyance of the mineral interests.

On August 4, 2011, the above described land will be temporarily segregated from all forms of appropriation under the public land laws, including the mining laws, except for the sale provisions of the FLPMA. Until completion of the sale, the BLM will no longer accept land use applications affecting the identified public land, except applications for the amendment of previously filed right-of-way applications or existing authorizations to increase the term of the grants in accordance with 43 CFR 2802.15 and 2886.15. The temporary segregation will terminate upon issuance of a patent, publication in the Federal Register of a termination of the segregation, or on August 5, 2013 unless extended by the BLM State Director in accordance with 43 CFR 2711.1-2(d) prior to the termination date. The land would not be sold until at least October 3, 2011. Any conveyance document issued would contain the following terms, conditions, and reservations:

1. A reservation of a right-of-way to the United States for ditches and canals constructed by authority of the United States under the Act of August 30, 1890 (43 U.S.C. 945);

2. A condition that the conveyance be subject to all valid existing rights of record;

3. An appropriate indemnification clause protecting the United States from claims arising out of the patentee's use, occupancy, or operations on the patented lands; and

4. Additional terms and conditions that the authorized officer deems appropriate. Detailed information concerning the proposed land sale including the appraisal, planning and environmental documents, and a mineral report are available for review at the location identified in ADDRESSES above. Public Comments regarding the proposed sale may be submitted in writing to the attention of the BLM Hollister Field Manager (see ADDRESSES above) on or before September 19, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director, Natural Resources.

[FR Doc. 2011-19779 Filed 8-3-11; 8:45 am]

BILLING CODE 4310-40-P